NATIONAL ARCHIVES AND RECORDS ADMINSTRATION

Nixon Presidential Historical Materials: Opening of Materials

AGENCY: National Archives and Records Administration.

ACTION: Notice of opening of materials.

SUMMARY: This notice announces the opening of additional Nixon presidential historical materials. Notice is hereby given that, in accordance with section 104 of Title I of the Presidential Recordings and Materials Preservation Act (“PRMPA”, 44 U.S.C. 2111 note) and 1275.42 (b) of the PRMPA Regulations implementing act (36 CFR part 1275), the agency has identified, inventoried, and prepared for public access approximately 11 hours of Nixon White House tape recordings among the Nixon presidential historical materials.

DATES: The National Archives and Records Administration (NARA) intends to make the materials described in this notice available to the public no earlier than July 5, 2007. The exact date of the opening has yet to be determined, but public notice will be provided on the National Archives and Records Administration Web site (http://www.archives.gov). In accordance with 36 CFR 1275.44, any person who believes it necessary to file a claim of legal right or privilege concerning access to these materials should notify the Archivist of the United States in writing of the claimed right, privilege, or defense on or before July 2, 2007.

ADDRESSES: The materials will be made available to the public at the National Archives at College Park research room. The National Archives at College Park research room is located at 8601 Adelphi Road, College Park, Maryland 20740-6001.

FOR FURTHER INFORMATION CONTACT: Tim Naftali, Director, Nixon Presidential Materials Staff, 714-983-9121.

SUPPLEMENTARY INFORMATION: NARA is proposing to open approximately 165 conversations which were recorded at the Nixon White House in November 1972. These conversations total approximately 11 hours and 30 minutes of listening time. NARA is proposing to open three tapes from November 1972. They are: White House Telephone Tape 33, recorded between November 3, 1972 and November 19, 1972; White House Old Executive Office Building tape 388, recorded on November 8, 1972; and White House Oval Office tape 813, recorded on November 8, 1972. This is the eleventh opening of Nixon White House tapes since 1980. There are no transcripts for these tapes. Tape subject logs, prepared by NARA, are offered for public access as a finding aid to the tape segments and a guide for the listener. There is a separate tape log entry for each conversation. Each tape log entry includes the names of participants; date and inclusive times of each conversation; location of the conversation; and an outline of the content of the conversation.

The tape recordings will be made available in the research room at 8601 Adelphi Road, College Park, Maryland no earlier than noon on the opening date. Researchers must have a NARA researcher card, which they may obtain when they arrive at the facility. Listening stations will be available for public use on a first come, first served basis. NARA reserves the right to limit listening time in response to heavy demand.

Dated: May 24, 2007.
Allen Weinstein,
Archivist of the United States.

[FR Doc. E7-10411 Filed 5-30-07; 8:45 am]

BILLING CODE 7515-01-P